DEPARTMENT OF COMMERCE

National Oceanic and Atmospheric Administration

[I.D. 111605E]

Receipt of an Application for Incidental Take Permit 1554

AGENCY: National Marine Fisheries Service (NMFS), National Oceanic and Atmospheric Administration, Commerce.

ACTION: Notice; application for permit.

SUMMARY: NMFS has received an application from the Washington Department of Fish and Wildlife (WDFW) for an incidental take permit pursuant to the Endangered Species Act of 1973, as amended (ESA). The duration of the proposed Permit is 10 years. NMFS is furnishing this notice in order to allow other agencies and the public an opportunity to review and comment on the document. All comments received will become part of the public record and will be available for review pursuant to the ESA.

DATES: Written comments from interested parties on the Permit application must be received at the appropriate address or fax number no later than 5 p.m. Pacific standard time on December 27, 2005.

ADDRESSES: Written comments on the application should be sent to Kristine Petersen, Salmon Recovery Division, NWR1, 1201 NE Lloyd Blvd., Suite 1100, Portland, OR 97232. Comments may also be sent via fax to (503) 872-2737. The mailbox address for providing e-mail comments is UCRFisheries.nwr@noaa.gov. Include in the subject line the following document identifier: “Upper Columbia fisheries”. Requests for copies of the permit application should be directed to the Salmon Recovery Division, 1201 N.E. Lloyd Blvd., Suite 1100, Portland, OR 97232. The documents are also available on the Internet at www.nwr.noaa.gov/1srd. Comments received will be available for public inspection, by appointment, during normal business hours by calling (503) 230-5409.

FOR FURTHER INFORMATION CONTACT: Kristine Petersen, Portland, OR (ph: (503) 230-5409, fax: (503) 872-2737, e-mail: kristine.petersen@noaa.gov.

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species if such taking is incidental to, and not the purpose of, the carrying out of an otherwise lawful activity. NMFS regulations governing permits for threatened and endangered species are promulgated at 50 CFR 222.307.

Species Covered in this Notice

The following evolutionarily significant units (ESUs) are included in the Permit application:

Steelhead (Oncorhynchus mykiss): endangered Upper Columbia River (UCR).

Chinook salmon (O. tshawytscha): endangered Upper Columbia River spring-run and threatened Snake River spring/summer-run.

Application received:

On September 21, 2005, the WDFW submitted an application to NMFS for an ESA section 10(a)(1)(B) permit for the incidental take of ESA-listed anadromous fish species associated with recreational fisheries on non-ESA-listed fish species in the middle and upper Columbia River Basin in Washington State.

This notice is provided pursuant to section 10(c) of the ESA. NMFS will evaluate the application, associated documents, and comments submitted thereon to determine whether the application meets the requirements of section 10(a)(1)(B) of the ESA. If it is determined that the requirements are met, a permit will be issued to the WDFW for the purpose of carrying out the proposed fisheries. NMFS will publish a record of its final action in the Federal Register.

Dated: November 21, 2005.
Angela Somma,
Chief, Endangered Species Division, Office of Protected Resources, National Marine Fisheries Service.

[FR Doc. 05-23285 Filed 11-23-05; 8:45 am]

BILLING CODE 3510-22-S